ENVIRONMENTAL PROTECTION AGENCY

[FRL-8222-4]

South Bay Asbestos Superfund Site; Proposed Notice of Administrative Settlement

AGENCY: Environmental Protection Agency (EPA).

ACTION: Notice; request for public comment.

SUMMARY: In accordance with section 122(i) of the Comprehensive Environmental Response, Compensation and Liability Act of 1980, as amended by the Superfund Amendments and Reauthorization Act of 1986 (“CERCLA”), 42 U.S.C. 9600 et seq., notice is hereby given that a proposed administrative cost recovery settlement concerning the South Bay Asbestos Area Superfund Site in San Jose, California was executed by the Agency on September 5, 2006. The proposed administrative settlement would resolve, pursuant to CERCLA section 122(h), the liability of the City of San Jose (“City”) for past response costs of the U.S. Environmental Protection Agency (“EPA”) with respect to CERCLA response actions taken by EPA at the Environmental Education Center (“EEC”), South Bay Asbestos Area Superfund Site. In 2003, EPA conducted a removal action at the EEC and successfully excavated and transported asbestos-containing soil material to an appropriate disposal site. Under the terms of the agreement, the City would pay EPA approximately $245,000 plus interest for the removal action.

For thirty (30) calendar days following the date of publication of this notice, EPA will receive written comments relating to the proposed settlement. If requested prior to the expiration of this public comment period, EPA will provide an opportunity for a public meeting in the effected area. EPA's response to any comments received will be available for public inspection at the U.S. Environmental Protection Agency, 75 Hawthorne Street, San Francisco, CA 94105.

DATES: Comments must be submitted on or before October 30, 2006.

Availability: The proposed settlement is available for public inspection at the U.S. Environmental Protection Agency, 75 Hawthorne Street, San Francisco, CA 94105. A copy of the proposed settlement may be obtained from Bethany Dreyfus, Assistant Regional Counsel (ORC-3), Office of Regional Counsel, U.S. EPA Region IX, 75 Hawthorne Street, San Francisco, CA 94105. Comments should reference “Environmental Education Center, South Bay Asbestos Area Superfund Site,” and “Docket No. R9-2006-14”.

FOR FURTHER INFORMATION CONTACT: Bethany Dreyfus, Assistant Regional Counsel (ORC-3), Office of Regional Counsel, U.S. EPA Region IX, 75 Hawthorne Street, San Francisco, CA 94105; e-mail: dreyfus.bethany@epa.gov; phone: (415) 972-3886.

Dated: September 5, 2006.
E. Adams,
Acting Director, Superfund Division, U.S. EPA, Region IX.

[FR Doc. E6-15977 Filed 9-27-06; 8:45 am]

BILLING CODE 6560-50-P